DEPARTMENT OF DEFENSE

Department of the Air Force

Notice of Federal Advisory Committee Meeting

AGENCY: Board of Visitors of the U.S. Air Force Academy (BoV AFA), Department of the Air Force.

ACTION: Notice of Federal advisory committee meeting.

SUMMARY: The Department of Defense (DoD) is publishing this notice to announce that the following Federal advisory committee meeting of the Board of Visitors of the U.S. Air Force Academy (BoV AFA) will take place.

DATES: The meeting is open to the public Thursday, February 5, 2026, from approximately 1 p.m. to 4 p.m. (Eastern Time). Those wishing to attend in person are requested to submit their name, affiliation, and phone number to USAFA.HQ.BOV@us.af.mil by January 30, 2026. The meeting will be handicap accessible. Seating is available on a first come, first served basis.

ADDRESSES: The meeting will be held at the U.S. Capitol Visitor Center, 1st St. SE, Washington, DC 20515 in Room HVC-201. All members of the public are subject to security screening. The Department of the Air Force will escort members of the public to HVC-201. Information on visiting the U.S. Capitol Visitor Center including guidelines, travel, and emergency information is available at https://www.visitthecapitol.gov/visit/know-before-you-go.

FOR FURTHER INFORMATION CONTACT:

Designated Federal Officer: Dr. Raquel Rimpola, USAFA.HQ.BOV@us.af.mil, 703-693-2767, 1660 Air Force Pentagon, Washington, DC 20330-1660.

Alternate Designated Federal Officer: Ms. Blaire Brush, USAFA.HQ.BOV@us.af.mil, 2304 Cadet Drive, Suite 3200, USAF Academy, CO 80840-5025.

USAFA BoV Website: https://www.usafa.edu/about/bov/. It contains information on the Board of Visitors, link to the meeting, and approved meeting agenda.

SUPPLEMENTARY INFORMATION: This meeting is being held under the provisions of the Federal Advisory Committee Act (FACA) (5 U.S.C. 1001 et seq.), the Government in the Sunshine Act (5 U.S.C. 552b), and 41 CFR 102-3.140 and 102-3.150. Pursuant to 41 CFR 102-3.140d, the committee is not obligated to allow a member of the public to speak or otherwise address the committee during the meeting and members of the public attending the committee meeting will not be permitted to present questions from the floor or speak to any issue under consideration of the committee.

Purpose of the Meeting: In accordance with 10 U.S.C. 9455(e)(1), the BoV AFA provides independent advice and recommendations to the Secretary of Defense, through the Secretary of the Air Force, on matters relating to the U.S. Air Force Academy (USAFA), including morale, discipline, and social climate, the curriculum, instruction, physical equipment, fiscal affairs, academic methods, and other matters relating to the USAFA that the BoV AFA decides to consider. This is the 2026 Organizational Meeting of the BoV AFA.

Written Statements: Pursuant to 41 CFR 102-3.105(j) and section 102-3.140 and section 1009(a)(3) of FACA, any member of the public wishing to provide input to the BoV AFA may submit a written statement. The public or interested organizations may submit written comments or statements to the Board about its mission and/or the topics to be addressed in the open sessions of this public meeting. Written comments or statements should be submitted to the Alternate Designated Federal Officer via electronic mail, at the email address listed in the FOR FURTHER INFORMATION CONTACT section in the following formats: Adobe Acrobat and/or Microsoft Word. The comment or statement must include the author's name, title, affiliation, address, and daytime telephone number. Written comments or statements being submitted in response to the agenda set forth in this notice must be received at least five (5) business days prior to the meeting. Please note that because the BoV AFA operates under FACA, all written comments will be treated as public documents and will be made available for public inspection.

Disability and Language Accommodations: Please direct any requests for disability or language accommodations to the Alternate Designated Federal Officer in the FOR FURTHER INFORMATION CONTACT section above.

Crystle C. Poge,
Air Force Federal Register Liaison Officer.

[FR Doc. 2026-00135 Filed 1-7-26; 8:45 am]

BILLING CODE 3911-44-P